DEPARTMENT OF TRANSPORTATION

Federal Aviation Administration

Proposed Advisory Circular; Guidance Material for 14 CFR 33.75, Safety Analysis

AGENCY: Federal Aviation Administration, DOT.

ACTION: Notice of availability of proposed advisory circular and request for comments.

SUMMARY: This notice announces the availability and request for comments of draft Advisory Circular (AC), No 33.75-1, Guidance Material for 14 CFR 33.75, Safety Analysis.

DATES: Comments must be received on or before October 30, 2004.

ADDRESSES: Send all comments on the proposed AC to the Federal Aviation Administration, Attn: Ann Azevedo, Engine and Propeller Standards Staff, ANE-110, Engine and Propeller Directorate, Aircraft Certification Service, 12 New England Executive Park, Burlington, MD 01803-5299.

FOR FURTHER INFORMATION CONTACT: Ann Azevedo, Engine and Propeller Standards Staff, ANE-110, at the above address, telephone (781) 238-7117, fax (781) 238-7199. If you have access to the Internet, you may also obtain further information by writing to the following address: Ann.Azevedo@faa.gov.

SUPPLEMENTARY INFORMATION:

Comments Invited

You may obtain a copy of the draft AC by contacting the person named under FOR FURTHER INFORMATION CONTACT, or if using the Internet, you may obtain a copy at the following address: http://www.airweb.faa.gov/rgl. Interested persons are invited to comment on the proposed AC and to submit written data, views, or arguments. Commenters must identify the subject of the AC, and submit comments to the address specified above. The Engine and Propeller Directorate, Aircraft Certification Service, will consider all responses received on or before the closing date for comments before it issues the final AC.

We will also file in the docket all substantive comments received, and a report summarizing them. The docket is available for public inspection both before and after the comment date. If you wish to review the docket in person, you may go the address above between 9 a.m. and 5 p.m., Monday through Friday, except Federal holidays. If you wish to contact the above individual directly, you can use the above telephone number or e-mail address provided.

Background

This draft advisory circular (AC) would provide guidance and acceptable methods, but not the only methods that may be used to demonstrate compliance with the safety analysis requirements of Title 14 of the Code of Federal Regulation (14 CFR) § 33.75.

This advisory circular would be published under the authority granted to the Administrator by 49 U.S.C. 106(g), 40113, 44701-44702, 44704, and would provide guidance for the requirements in 14 CFR part 33.

Jay J. Pardee,
Manager, Engine and Propeller Directorate, Aircraft Certification Service.

[FR Doc. 04-16522 Filed 7-20-04; 8:45 am]

BILLING CODE 4910-13-M